FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 28, 2018.

A. Federal Reserve Bank of Chicago (Colette A. Fried, Assistant Vice President) 230 South LaSalle Street, Chicago, Illinois 60690-1414:

1. Janet Ranniger, Manning, Iowa, individually and as trustee of the Janet Ranniger Trust, Manning, Iowa, and as a group acting in concert with Gaylin R. Ranniger, Alex J. Ranniger, Abbey Stangl, and Jacob Ranniger, all of Manning, Iowa; to retain and acquire shares of Manning Financial Services, Inc. and thereby indirectly retain and acquire The First National Bank of Manning, both of Manning, Iowa.

Board of Governors of the Federal Reserve System, December 10, 2018.
Yao-Chin Chao,
Assistant Secretary of the Board.

[FR Doc. 2018-26977 Filed 12-12-18; 8:45 am]

BILLING CODE P